DEPARTMENT OF THE TREASURY

Alcohol and Tobacco Tax and Trade Bureau

27 CFR Part 9

[Docket No. TTB-2015-0002; Notice No. 146]

RIN 1513-AC12

Proposed Establishment of the Squaw Valley-Miramonte Viticultural Area

AGENCY: Alcohol and Tobacco Tax and Trade Bureau, Treasury.

ACTION: Notice of proposed rulemaking.

SUMMARY: The Alcohol and Tobacco Tax and Trade Bureau (TTB) proposes to establish the approximately 44,690-acre “Squaw Valley-Miramonte” viticultural area in Fresno County, California. The proposed viticultural area does not overlap any established viticultural area. TTB designates viticultural areas to allow vintners to better describe the origin of their wines and to allow consumers to better identify wines they may purchase. TTB invites comments on this proposed addition to its regulations.

DATES: Comments must be received by March 23, 2015.

ADDRESSES: Please send your comments on this notice to one of the following addresses:

• Internet: http://www.regulations.gov (via the online comment form for this notice as posted within Docket No. TTB-2015-0002 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations outlines the procedure for proposing an AVA and provides that any interested party may petition TTB to establish a grape-growing region as an AVA. Section 9.12 of the TTB regulations (27 CFR 9.12) prescribes the standards for petitions requesting the establishment or modification of AVAs. Petitions to establish an AVA must include the following:

• Evidence that the region within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed viticultural AVA;

• The appropriate United States Geological Survey (USGS) map(s) showing the location of the proposed AVA, with the boundary of the proposed AVA clearly drawn thereon; and

• A detailed narrative description of the proposed AVA boundary based on USGS map markings.

Squaw Valley-Miramonte Petition

TTB received a petition from Christine Flannigan, owner of the Sierra Peaks Winery and Purgatory Vineyards, on behalf of herself and other members of the Squaw Valley Grape Growers Group, proposing the establishment of the “Squaw Valley-Miramonte” AVA. The proposed Squaw Valley-Miramonte AVA is located in Fresno County, California, approximately 40 miles east of the city of Fresno. The proposed AVA is a largely rural region in the foothills of the Sierra Nevada Mountains and includes the communities of Squaw Valley, Dunlap, and Miramonte. The proposed AVA does not overlap any established AVAs.

The proposed Squaw Valley-Miramonte AVA contains approximately 44,690 acres and has 3 bonded wineries and 5 commercially producing vineyards, covering a total of 7.5 acres, distributed across the proposed AVA. The petition states that vineyards within the proposed AVA are small due to the region's steep and rugged terrain, which requires most vineyard work to be done by hand rather than by machine. According to the petition, the distinguishing features of the proposed AVA include its climate, topography, and soils. Unless otherwise noted, all information and data pertaining to the proposed AVA contained in this document are from the petition for the proposed Squaw Valley-Miramonte AVA and its supporting exhibits.

Name Evidence

The proposed Squaw Valley-Miramonte AVA derives its name from the communities of Squaw Valley and Miramonte. Squaw Valley is the largest community within the proposed AVA and is located in the western portion of the proposed AVA. The community of Squaw Valley appears on the Tucker Mountain USGS quadrangle map, as does a large valley labeled “Squaw Valley.” Additionally, the same map shows the Squaw Valley Cemetery and the Squaw Valley School. The petition also included evidence that the name “Squaw Valley” is associated with businesses in the proposed AVA, including Squaw Valley Realty, Squaw Valley Trading Center, Squaw Valley Motel, and Squaw Valley Herb Gardens.

In order to avoid confusion with other locations in the United States that are known as Squaw Valley, including the famous Squaw Valley ski resort in Placer County, California, the petitioner added “Miramonte” to the proposed AVA name. As shown on the Miramonte quadrangle map, Miramonte is a small community in the easternmost portion of the proposed AVA. The Miramonte Conservation Camp, a State of California facility, is also shown on the Miramonte quadrangle map. The community of Miramonte is served by the Miramonte Post Office. TTB notes that several established AVAs have combined the names of geographic features or communities located within the particular AVA in order to provide a geographically distinct name for the AVA, including Pine Mountain-Cloverdale Peak (27 CFR 9.220) and Fort Ross-Seaview (27 CFR 9.221).

Boundary Evidence

The proposed Squaw Valley-Miramonte AVA is a region of steep, rocky slopes in the western foothills of the Sierra Nevada Mountains. To the north and east of the proposed AVA is the Sequoia National Forest. The San Joaquin Valley, which includes the cities of Fresno and Orange Cove, is to the south, west, and northwest of the proposed AVA. Elevations within the proposed AVA range from approximately 1,600 feet along its proposed western and southern borders to approximately 3,500 feet along its proposed eastern border.

The proposed northern boundary follows the northern boundaries of several sections on the Luckett Mountain USGS quadrangle map. Although the features of the region immediately outside the proposed northern boundary are identical to those within the proposed AVA, the proposed northern boundary marks the northern extent of current viticulture in the region. Approximately 5 miles north of the proposed northern boundary is the Sequoia National Forest, which was excluded from the proposed AVA primarily because its public lands are unavailable for commercial viticulture. The eastern portion of the proposed boundary also follows the boundary of the Sequoia National Forest. The southern portion of the proposed boundary follows the Fresno-Tulare County line and several section lines on the Tucker Mountain and Orange Cove North USGS quadrangle maps. To the immediate south of the proposed boundary, the elevations are lower and broad valleys are more numerous than within the proposed AVA. The San Joaquin Valley is just farther south of that area. The western portion of the proposed boundary follows straight lines drawn between mountain peaks and separates the higher elevations of the proposed AVA from both the lower mountain slopes to the immediate west of the proposed boundary and from the San Joaquin Valley, farther to the west.

Distinguishing Features

The distinguishing features of the proposed Squaw Valley-Miramonte AVA include its climate, topography, and soils.

Climate

The petition provided information on the temperature and precipitation within the proposed AVA and the surrounding regions.

Temperature: According to the petition, the climate of the proposed Squaw Valley-Miramonte AVA is subhumid mesothermal (high humidity and precipitation amounts, with winter temperatures too warm to sustain snow cover). Daytime temperatures within the proposed AVA are generally cooler than in the neighboring San Joaquin Valley to the south, west, and northwest. However, nighttime temperatures are usually warmer within the proposed AVA than within the San Joaquin Valley because cool air drains off the slopes of the proposed AVA at night and settles in the valley. As a result of the warm nighttime temperatures, the difference between the average daily high and low temperatures within the proposed AVA is small, particularly during the growing season. The difference between the average daily high and daily low temperatures is known as the diurnal temperature range (DTR). The following two tables summarize the average monthly high and low temperatures in degrees Fahrenheit for the proposed AVA and the surrounding regions, as well as the average monthly DTR.

Table 1—Average Daily High and Low Temperatures
Month | Purgatory Vineyards ¹ (within proposed AVA): Average high | Purgatory Vineyards ¹ (within proposed AVA): Average low | Orange Cove ² (southwest): Average high | Orange Cove ² (southwest): Average low | Piedra ³ (northwest): Average high | Piedra ³ (northwest): Average low | Pinehurst ⁴ (east): Average high | Pinehurst ⁴ (east): Average low
Jan | 57 | 44 | 57 | 36 | 55 | 37 | 57 | 38
Feb | 52 | 41 | 61 | 37 | 63 | 40 | 51 | 35
Mar | 55 | 43 | 65 | 40 | 68 | 43 | 55 | 36
Apr | 62 | 48 | 70 | 43 | 76 | 46 | 59 | 36
May | 70 | 55 | 79 | 46 | 85 | 52 | 68 | 44
June | 78 | 63 | 89 | 55 | 93 | 58 | 80 | 54
July | 86 | 72 | 95 | 61 | 99 | 62 | 89 | 62
Aug | 89 | 75 | 95 | 60 | 98 | 61 | 90 | 63
Sept | 85 | 71 | 92 | 58 | 92 | 57 | 87 | 65
Oct | 71 | 58 | 78 | 50 | 81 | 49 | 72 | 52
Nov | 60 | 47 | 64 | 39 | 66 | 41 | 60 | 40
Dec | 52 | 41 | 58 | 36 | 56 | 36 | 53 | 36

Table 2—Average Monthly Diurnal Temperature Range (DTR)
Month | Purgatory Vineyards (within proposed AVA) | Orange Cove (southwest) | Piedra (northwest) | Pinehurst (east)
January | 13 | 21 | 18 | 19
February | 11 | 24 | 23 | 16
March | 12 | 25 | 25 | 19
April | 14 | 27 | 30 | 23
May | 15 | 33 | 33 | 24
June | 15 | 34 | 35 | 26
July | 14 | 34 | 37 | 27
August | 14 | 35 | 37 | 27
September | 14 | 34 | 35 | 22
October | 13 | 28 | 32 | 20
November | 13 | 25 | 25 | 20
December | 11 | 22 | 20 | 17

The data in the tables shows that the average monthly high temperatures in the proposed Squaw Valley-Miramonte AVA are generally cooler and the average monthly low temperatures are warmer than the temperatures in the regions to the northwest and southwest. As a result, the average monthly DTR within the proposed AVA is smaller than the average monthly DTR within the San Joaquin Valley. Average monthly high temperatures to the east of the proposed AVA are similar to the temperatures of the proposed AVA, but the average monthly lows in that eastern region are generally cooler, resulting in greater average monthly DTRs than are found within the proposed AVA.

¹ Data obtained from private weather station for 2011-2012.

² Data obtained from California Irrigation Management Information System Station #142 from 2010-2012 (http://www.cimis.water.ca.gov).

³ Data obtained from Intellicast weather Web site historical averages for Piedra, CA (http://www.intellicast.com/Local/History.aspx?location=USCA0861). The Web site does not list the years from which the data was gathered.

⁴ Data obtained from Western Regional Climate Center Web site for 2010-2012 (http://www.raws.dri.edu/cgi-bin/rawMAIN.pl?caCPIH).

According to the petition, cool daytime temperatures and warm nighttime temperatures during the growing season produce higher levels of sugar and anthocyanins (pigments responsible for the color of grape skins) at harvest. Additionally, grapes grown in moderate climates such as the proposed Squaw Valley-Miramonte AVA have higher levels of malic acid (an organic compound that contributes to the flavor of grapes) than grapes grown in warmer regions, such as the nearby San Joaquin Valley. Finally, the cooler temperatures of the proposed AVA result in later harvest dates than occur in the warmer San Joaquin Valley.

Precipitation: The petition included data on annual precipitation amounts within the proposed Squaw Valley-Miramonte AVA and the surrounding regions. The precipitation data set forth in the following table were collected from the same sources and during the same time periods as the temperature data in Tables 1 and 2.

Table 3—Average Annual Precipitation Amounts
Location (direction from proposed AVA) | Precipitation (in inches)
Purgatory Vineyards (within) | 40.85
Orange Cove (southwest) | 15.48
Piedra (northwest) | 12.27
Pinehurst (east) | 51.42

The data in the table shows that the proposed Squaw Valley-Miramonte AVA receives more rainfall annually than the regions to the northwest and southwest, within the San Joaquin Valley, and less rainfall than the region to the east in the higher elevations of the Sierra Nevada Mountains and the Sequoia National Forest. The high rainfall amounts within the proposed AVA increase the risk of erosion on the steep hillsides. In order to minimize erosion, vineyard owners plant cover crops between vineyard rows and mow between the rows, instead of using a disk harrow to till the soil. Vineyards located in areas with high rainfall amounts are usually more susceptible to root diseases, fruit rot, and powdery mildew than vineyards in drier areas. However, the steep slope angles and thin soil within the proposed AVA promote rapid drainage, which reduces the risk of root disease. Additionally, the risk of fruit rot and mildew within the proposed AVA is mitigated because the leaf canopies are dried by breezes that rise from the San Joaquin Valley during the day and flow down from the higher elevations and through the proposed AVA at night.

Topography

The proposed Squaw Valley-Miramonte AVA is located in the foothills of the Sierra Nevada Mountains. The terrain is characterized by steep and rugged hillsides covered with boulders and oak woodlands, although a few valleys exist within the proposed AVA. Slope angles within the proposed AVA range from 5 percent to over 75 percent, and elevations range from approximately 1,600 feet to approximately 3,500 feet. The following table shows the elevations and average slope angles of the vineyards within the proposed AVA.

Table 4—Proposed AVA Vineyard Elevations and Slope Angles
Vineyard | Elevation (in feet) | Slope angles (percent)
Riffelhoff | 3,000 | 15-35
Purgatory | 3,200 | 25-35
White Ginger | 2,000 | 15
Adrian Joseph | 1,800-2,000 | 20-40
Buttercup | 1,800 | 15

Immediately outside of the northern boundary of the proposed Squaw Valley-Miramonte AVA, the terrain is similar to that found within the proposed AVA. However, this region was not included in the proposed AVA due to a lack of viticulture. The Sequoia National Forest, located approximately 5 miles north of the proposed AVA, was excluded from the proposed AVA not only because of its higher elevations but also because its status as a national forest makes the region unavailable for commercial viticulture. The Sequoia National Forest also borders the proposed AVA to the east, as does a small mountainous region that is not within the national forest that was excluded from the proposed AVA because its higher, steeper elevations are unsuitable for viticulture. To the south and west of the proposed AVA, the elevations become lower and the slope angles become shallower as the foothills give way to the broad, flat terrain of the San Joaquin Valley.

The topography of the proposed AVA has an effect on viticulture. The ruggedness of the terrain limits the amount of flat, open spaces, so the vineyards are planted on the mountain slopes. The steepness of the slopes allows for only very limited use of mechanized spray and harvest equipment, so much of the vineyard work is done by hand. Due to the difficulty of working the vineyards by hand, individual vineyards within the proposed AVA are small. By contrast, vineyards within the San Joaquin Valley are generally much larger because the broad, open valley provides ample space for vineyards, and machinery can be used more safely and easily on the flat terrain. The steep slopes of the proposed AVA increase the risk of erosion, which is controlled by planting cover crops and mowing between the vineyard rows instead of disking. However, the steep hillsides also promote increased airflow and drainage, which lessen the risk of mildew and rot. Finally, the high elevations of the proposed AVA allow the vineyards to receive more sunlight than vineyards at lower elevations within the San Joaquin Valley because fog is generally not present at elevations above 1,600 feet.

Soils

The majority of the soils within the proposed Squaw Valley-Miramonte AVA are derived from granitic material, mainly quartz diorite. The three most common soil series are the Vista, Sierra, and Auberry series. All three soil series are described as having good drainage, which reduces the risk of root disease. The soils within the proposed AVA have pH levels ranging from a slightly acidic 5.6 to a neutral 7.3, levels which are adequate for viticulture and do not promote overly vigorous vine or canopy growth. The soils within the proposed AVA are severely deficient in nitrogen, a nutrient necessary for vine growth, and therefore require supplementation. Additionally, soils in some of the vineyards within the proposed AVA have an excess of potassium, which interferes with the vines' ability to uptake magnesium. As a result, magnesium must be added to the soil in these vineyards.

To the north of the proposed Squaw Valley-Miramonte AVA, the soils are primarily of the Coarsegold and Trabuco series. Coarsegold series soils are derived from weathered schist, while Trabuco series soils are derived from igneous rock. The most common soil series east of the proposed AVA are the Holland series, derived from weathered granitic rock, and the Aiken series, derived from volcanic rocks. The soils in the area directly east of the proposed AVA are more acidic than the soils within the proposed AVA due to deep mats of decomposing needle litter from conifer trees. South of the proposed AVA, rock outcropping complexes such as the Auberry Rock Outcrop and the Blasingame Rock Outcrop are common. Farther south, within the San Joaquin Valley, alluvial soils such as San Joaquin loam and San Joaquin sandy loam become common. To the west of the proposed AVA, the most common soil series are the Hanford and Greenfield series. The soils west of the proposed AVA are less acidic, have finer textures, and are comprised primarily of alluvium.

Summary of Distinguishing Features

In summary, the climate, topography, and soils of the proposed Squaw Valley-Miramonte AVA distinguish it from the surrounding regions. The region to the north has higher, steeper elevations than the proposed AVA. The region to the east has higher, steeper elevations, as well as higher precipitation amounts and higher soil acidity levels than the proposed AVA. Portions of the regions to the north and east of the proposed were also excluded because they are part of the Sequoia National Forest and therefore are unavailable for commercial viticulture. To the south, west, and northwest of the proposed AVA lies the San Joaquin Valley, which has low elevations, flat terrain, and soils comprised primarily of alluvium. Additionally, within the San Joaquin Valley, average monthly high temperatures are warmer and annual precipitation amounts are lower than within the proposed Squaw Valley-Miramonte AVA.

TTB Determination

TTB concludes that the petition to establish the approximately 44,690-acre Squaw Valley-Miramonte AVA merits consideration and public comment, as invited in this notice of proposed rulemaking.

Boundary Description

See the narrative description of the boundary of the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in § 4.25(e)(3) of the TTB regulations (27 CFR 4.25(e)(3)). If the wine is not eligible for labeling with an AVA name, then the label is not in compliance, and the bottler must change the brand name and obtain approval of a new label. Similarly, if the AVA name appears in another reference on the label in a misleading manner, the bottler would have to obtain approval of a new label. Different rules apply if a wine has a brand name containing an AVA name that was used as a brand name on a label approved before July 7, 1986. See § 4.39 of the TTB regulations (27 CFR 4.39(i)(2)) for details.

If TTB establishes this proposed AVA, its name, “Squaw Valley-Miramonte,” will be recognized as a name of viticultural significance under § 4.39(i)(3) of the TTB regulations (27 CFR 4.39(i)(3)). TTB does not believe that the term “Squaw Valley,” standing alone, has viticultural significance, as this name is associated with multiple locations outside the proposed AVA. Although the USGS Geographic Names Information System (GNIS) lists 6 uses of the name “Squaw Valley” within the proposed AVA, it also lists an additional 33 uses in 7 States, including locations in Placer, Lake, Shasta, Plumas, and Lassen Counties in California. Additionally, TTB does not believe that the term “Miramonte,” standing alone, has viticultural significance, as this name is also associated with multiple locations outside the proposed AVA. The GNIS lists 6 uses of the term “Miramonte” within the proposed AVA, but also lists an additional 17 uses within California and Colorado. Therefore, if TTB establishes this proposed AVA, only the full name “Squaw Valley-Miramonte” will be recognized as a term of viticultural significance under 27 CFR 4.39(i)(3). The text of the proposed regulation clarifies this point. Consequently, wine bottlers using the name “Squaw Valley-Miramonte” in a brand name, including a trademark, or in another label reference as to the origin of the wine, would have to ensure that the product is eligible to use the AVA name as an appellation of origin if this proposed rule is adopted as a final rule. The approval of the proposed Squaw Valley-Miramonte AVA would not affect any existing AVA.

Public Participation

Comments Invited

TTB invites comments from interested members of the public on whether it should establish the proposed Squaw Valley-Miramonte AVA. TTB is also interested in receiving comments on the sufficiency and accuracy of the name, boundary, soils, climate, and other required information submitted in support of the petition. Please provide any available specific information in support of your comments.

Because of the potential impact of the establishment of the proposed Squaw Valley-Miramonte AVA on wine labels that include the term “Squaw Valley-Miramonte,” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods:

• Federal e-Rulemaking Portal: You may send comments via the online comment form posted with this notice within Docket No. TTB-2015-0002 on “Regulations.gov,” the Federal e-rulemaking portal, at http://www.regulations.gov. A direct link to that docket is available under Notice No. 146 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this notice. Your comments must reference Notice No. 146 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2015-0002 on the Federal e-rulemaking portal, Regulations.gov, at http://www.regulations.gov. A direct link to that docket is available on the TTB Web site at http://www.ttb.gov/wine/wine_rulemaking.shtml under Notice No. 146. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Information Resource Center, 1310 G Street NW., Washington, DC 20005. You may also obtain copies at 20 cents per 8.5- x 11-inch page. Please note that TTB is unable to provide copies of USGS maps or other similarly-sized documents that may be included as part of the AVA petition. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9 of the Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9.___ Squaw Valley-Miramonte.

(a) Name. The name of the viticultural area described in this section is “Squaw Valley-Miramonte”. For purposes of part 4 of this chapter, “Squaw Valley-Miramonte” is a term of viticultural significance.

(b) Approved maps. The six United States Geological Survey (USGS) 1:24,000 scale topographic maps used to determine the boundary of the Squaw Valley-Miramonte viticultural area are titled:

(1) Orange Cove North, Calif., 1966;

(2) Pine Flat Dam, Calif., 1965; photoinspected 1978;

(3) Luckett Mtn., Calif., provisional edition 1987;

(4) Verplank Ridge, Calif., provisional edition 1987;

(5) Miramonte, Calif., 1966; and

(6) Tucker Mtn., Calif., 1966.

(c) Boundary. The Squaw Valley-Miramonte viticultural area is located in Fresno County, California. The boundary of the Squaw Valley-Miramonte viticultural area is as described below:

(1) The beginning point is located on the Orange Cove North map, at the southwest corner of section 21, T14S/R25E. From the beginning point, proceed north-northwesterly in a straight line to the marked 3,355-foot elevation point on Bear Mountain, section 5, T14S/R25E; then

(2) Proceed northeast in a straight line, crossing onto the Pine Flat Dam map and over the marked 3,354-foot elevation point on Bear Mountain, section 32, T13S/R25E, and then continuing northeasterly in a straight line and crossing onto the Luckett Mountain map, proceed to the marked 3,489-foot summit of Dalton Mountain, section 22, T13S/R25E; then

(3) Proceed easterly in a straight line to the Sequoia National Forest boundary line at the northwest corner of section 28, T13S/R26E; then

(4) Proceed east along the Sequoia National Forest boundary line, crossing onto the Verplank Ridge map, and continue south, then east, then south along the national forest boundary line, crossing onto the Miramonte map, and then continue south, then east along the national forest boundary line to the northeast corner of section 5, T14S/R27E; then

(5) Proceed south along the eastern boundary lines of sections 5, 8, and 17, T14S/R27E, to the southeast corner of section 17; then

(6) Proceed east along the northern boundary line of section 21, T14S/R27E, to the northeast corner of that section; then

(7) Proceed south along the eastern boundary lines of sections 21, 28, and 33, T14S/R27E, to the Fresno-Tulare County boundary line at the southeast corner of section 33; then

(8) Proceed west along the Fresno-Tulare County boundary line, crossing onto the Tucker Mountain map, to the southwest corner of section 34, T14S/R26E; then

(9) Proceed north along the western boundary lines of sections 34, 27, 22, and 15, T14S/R26E, to the northwest corner of section15; then

(10) Proceed west along the southern boundary lines of sections 9, 8, and 7, T14S/R26E, and sections 12 and 11, T14S/R25E, to the southwest corner of section 11; then

(11) Proceed south along the eastern boundary lines of sections 15 and 22, T14S/R25E, to the southeast corner of section 22; then

(12) Proceed west along the southern boundary line of section 22, T14S/R25E, and, crossing onto the Orange Cove North map, continue west along the southern boundary line of section 21, T14S/R25E, returning to the beginning point.

Signed: January 15, 2015.
Mary G. Ryan,
Acting Administrator.

[FR Doc. 2015-01015 Filed 1-21-15; 8:45 am]

BILLING CODE 4810-31-P